DEPARTMENT OF HEALTH AND HUMAN SERVICES

Health Resources and Services Administration

Advisory Council; Notice of Meeting

In accordance with section 10(a)(2) of the Federal Advisory Committee Act (Pub. L. 92-463), announcement is made of the following National Advisory body scheduled to meet during the month of June 2001.

Name: National Advisory Council on the National Health Service Corps.

Date and Time: June 21, 2001; 3 p.m.-6:30 p.m.; June 22, 2001, 8 a.m.-5 p.m.; June 23, 2001, 9 a.m. to 5:30 p.m.; June 24, 2001, 8 a.m.-10:15 a.m.

Place: Hyatt Regency Hotel, 575 Memorial Drive, Cambridge, MA 02139-4896, Phone: (617) 492-1234.

The meeting is open to the public.

Agenda: The Council will focus its agenda on strategic and operational plans for the current fiscal year. The Council will be attending three community meetings in Raymond, NH, Worcester, MA, and Providence, RI, on Friday, June 22, to discuss integrated primary medical care, the integration of primary care, mental and behavioral health, and oral health. Transportation will not be provided to the general public.

Agenda items and times are subject to change as priorities dictate.

FOR FURTHER INFORMATION CONTACT: Ms. Eve Morrow, Division of National Health Service Corps, at (301) 594-4144.

Dated: May 17, 2001.
Jane M. Harrison,
Director, Division of Policy Review and Coordination.

[FR Doc. 01-12910 Filed 5-22-01; 8:45 am]

BILLING CODE 4160-15-P